DEPARTMENT OF TRANSPORTATION

Federal Aviation Administration

[Policy Statement No. ANM-02-115-21]

Stowage, Retention, and Breakaway of Deployable Individual Video Systems (IVS) Installed in Transport Airplane Seats

AGENCY: Federal Aviation Administration (FAA), DOT.

ACTION: Notice of final policy.

SUMMARY: The Federal Aviation Administration (FAA) announces the availability of final policy that addresses the use of industry standards in the seat certification process regarding qualification of video systems mounted on seats.

DATES: This final policy was issued by the Transport Airplane Directorate on November 21, 2002.

FOR FURTHER INFORMATION CONTACT: Alan Sinclair, Federal Aviation Administration, Transport Airplane Directorate, Transport Standards Staff, Airframe and Cabin Safety Branch, ANM-115, 1601 Lind Avenue SW., Renton, WA 98055-4056; telephone (425) 227-2195; fax (425) 227-1149; e-mail: alan.sinclair@faa.gov.

SUPPLEMENTARY INFORMATION: Discussion of Comments: A notice of proposed policy was published in the Federal Register on September 4, 2002 (67 FR 56611). Four commenters responded to the request for comments.

Background

The policy further simplifies the certification process pertaining to the retention of video components on seats for which the supplier has been granted a Technical Standard Order authorization. This policy reduces the regulatory burden on industry by acknowledging the acceptability of test data generated by the seat supplier.

The final policy as well as the disposition of public comments received is available on the Internet at the following address: http://www.faa.gov/certification/aircraft/anminfo/finalpaper.cfm. If you do not have access to the Internet, you can obtain a copy of the policy by contacting the person listed under FOR FURTHER INFORMATION CONTACT.

Issued in Renton, Washington, on November 21, 2002.
Ali Bahrami,
Acting Manager, Transport Airplane Directorate, Aircraft Certification Service.

[FR Doc. 02-30613 Filed 12-2-02; 8:45 am]

BILLING CODE 4910-13-M